DEPARTMENT OF COMMERCE

Census Bureau

Proposed Information Collection; Comment Request; Construction Progress Reporting Surveys

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before October 29, 2018.

ADDRESSES: Direct all written comments to Jennifer Jessup, Departmental Paperwork Clearance Officer, Department of Commerce, Room 6616, 14th and Constitution Avenue NW, Washington, DC 20230 (or via the internet at docpra@doc.gov).

FOR FURTHER INFORMATION CONTACT: Requests for additional information or copies of the information collection instrument(s) and instructions should be directed to Erica M. Filipek, U.S. Census Bureau, EID, CENHQ Room 7K057, 4600 Silver Hill Road, Washington, DC 20233-6900, telephone (301) 763-5161 (or via email at erica.mary.filipek@census.gov).

SUPPLEMENTARY INFORMATION:

I. Abstract

The Census Bureau plans to request an extension of a currently approved collection for forms C-700, C-700(R), C-700(SL), and C-700(F). These forms are used to conduct the Construction Progress Reporting Surveys (CPRS) and collect information on the dollar value of construction put in place. Form C-700 is for nonresidential projects owned by private companies or individuals. Form C-700(R) is for private multifamily residential buildings. Form C-700(SL) is for state and local government projects. Form C-700(F) is for federal government projects.

The Census Bureau uses the information from these surveys to publish the value of construction put in place for the monthly `Construction Spending' principal economic indicator. Published estimates are used by a variety of private businesses and trade associations to estimate the demand for building materials and to schedule production, distribution, and sales efforts. They also provide various government agencies with a tool to evaluate economic policy. For example, Bureau of Economic Analysis staff use data to develop the construction components of gross private domestic investment in the gross domestic product. The Federal Reserve Board and the Department of the Treasury use the value in place data to predict the gross domestic product, which is presented to the Board of Governors and has an impact on monetary policy.

There are currently no planned content changes to the questionnaires. However, beginning with the September 2018 reference period, the Census Bureau will begin mailing redesigned survey forms. They were previously printed on a single legal page, and will now be in booklet form. Additionally, the contact information will now be requested on the front page of the booklet rather than on the back page, and the numbering scheme will reflect this rearrangement of questions.

II. Method of Collection

An independent systematic sample of construction projects is selected each month according to predetermined sample rates. Once a project is selected, it remains in the sample until completion. The Census Bureau mails preprinted survey forms monthly to respondents to fill in current month data and any revisions to previous months. Respondents have the option to report online or mail the forms back. If respondents do not return the form or respond online, Census interviewers will contact them by phone to schedule a phone interview to collect the data. Interviews are scheduled at the convenience of the respondent. We request that respondents have their information available from an internal database at the time of the interview, which greatly reduces the time they spend on the phone during these interviews. After the preliminary mailing, if a respondent consistently reports electronically, the respondent will begin receiving email notifications and reminders to complete the online survey, and the Census Bureau will cease mailing them paper forms.

III. Data

OMB Control Number: 0607-0153.

Form Number(s): C-700, C-700(R), C-700(SL), C-700(F).

Type of Review: Regular submission.

Affected Public: Individuals, Businesses or Other for Profit, Not-for-Profit Institutions, Small Businesses or Organizations, State and Local Governments and the Federal Government.

Estimated Number of Respondents:

C-700 = 8,500

C-700(R) = 3,900

C-700(SL) = 11,000

C-700(F) = 1,600

Total = 25,000

Estimated Time per Response: 30 min for the first month; and 10 min for the subsequent months. We estimate that, on average, projects remain in sample for 12 months.

Estimated Total Annual Burden Hours: 58,333.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-18623 Filed 8-27-18; 8:45 am]

BILLING CODE 3510-07-P